DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 19, 2013 10:00 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

997th-Meeting, Regular Meeting
[September 19, 2013, 10:00 a.m.]
Item No. | Docket No. | Company
Administrative
A-1 | AD02-1-000 | Agency Business Matters.
A-2 | AD02-7-000 | Customer Matters, Reliability, Security and Market Operations.
A-3 | AD12-12-000 | Coordination Between Natural Gas and Electricity Markets.
Electric
E-1 | ER12-1179-003 | Southwest Power Pool, Inc.
| ER12-1179-004
| ER12-1179-005
| ER13-1173-000
E-2 | OMITTED
E-3 | OMITTED
E-4 | RM12-16-000 | Generator Requirements at the Transmission Interface.
E-5 | RM13-16-000 | Generator Verification Reliability Standards.
E-6 | RM10-11-002 | Integration of Variable Energy Resources.
E-7 | ER11-2814-000 | PJM Interconnection, L.L.C.
| ER11-2814-001
| ER11-2815-001
| ER11-2815-002
| ER11-2815-004
E-8 | ER11-2814-000 | PJM Interconnection, L.L.C.
| ER11-2814-001
| ER11-2815-000
| ER11-2815-001
| ER11-2815-002
| ER11-2815-004
| ER11-3279-000 | Midwest Independent Transmission System Operator, Inc.
| ER11-3279-001
E-9 | ER12-91-000 | PJM Interconnection, L.L.C.
| ER12-91-002 | Duke Energy Ohio, Inc., and
| ER12-91-005 | Duke Energy Kentucky, Inc.
| ER12-92-000
| ER12-92-002
| ER12-92-005
E-10 | OMITTED
E-11 | ER13-2031-000 | Southwest Power Pool, Inc.
| ER13-2033-000
E-12 | ER12-2292-001 | Southwest Power Pool, Inc.
| ER12-2292-002
| ER12-2292-003
| ER13-1123-000
Gas
G-1 | RP12-813-002 | Gulf South Pipeline Company, LP.
| RP12-813-001
G-2 | RP13-423-002 | Rockies Express Pipeline LLC.
| RP12-765-002
Hydro
H-1 | P-2149-160 | Public Utility District No. 1 of Douglas County, Washington.
H-2 | P-2114-261 | Public Utility District No. 2 of Grant County, Washington.
H-3 | P-2197-103 | Alcoa Power Generating Inc.
H-4 | P-2790-059 | Boott Hydropower, Inc., and Eldred L. Field Hydroelectric Facility Trust.
H-5 | P-2216-081 | New York Power Authority.
H-6 | P-2232-598 | Duke Energy Carolinas, LLC.
Certificates
C-1 | CP06-407-008 | Missouri Interstate Gas, LLC.
|  | Missouri Gas Company, LLC.
|  | Missouri Pipeline Company, LLC.
C-2 | CP13-3-000 | Tennessee Gas Pipeline Company, L.L.C.

Issued September 12, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-22777 Filed 9-16-13; 11:15 am]

BILLING CODE 6717-01-P